DEPARTMENT OF DEFENSE

Department of the Army

Availability of Patent for Exclusive, Partially Exclusive, or Non-Exclusive License

AGENCY: U.S. Army Soldier and Biological Chemical Command, DoD.

ACTION: Notice.

SUMMARY: The Department of the Army announces the general availability of exclusive, partially exclusive, or nonexclusive licenses under the following patent that is listed in the SUPPLEMENTARY INFORMATION paragraph.

FOR FURTHER INFORMATION CONTACT: Mr. Robert Rosenkrans at U.S. Army Soldier and Biological Chemical Command, Kansas Street, Natick, MA 01760, phone (508) 233-4928 or E-mail: Robert.Rosenkrans@natick.army.mil.

SUPPLEMENTARY INFORMATION: Any licenses granted shall comply with 35 U.S.C. 209 and 37 CFR part 404. The following Patent, Title, and Issue date is provided:

Patent Number: 09/165,043.

Title: Enzyme-Catalyzed Modifications of Macromolecules in Organic Solvents.

Issue Date: April 3, 2001.
Luz D. Ortiz,
Army Federal Register Liaison Officer.

[FR Doc. 01-10010 Filed 4-23-01; 8:45 am]

BILLING CODE 3710-08-M